DEPARTMENT OF COMMERCE

National Oceanic and Atmospheric Administration

RIN 0648-XB027

Endangered Species; File No. 16253

AGENCY: National Marine Fisheries Service (NMFS), National Oceanic and Atmospheric Administration (NOAA), Commerce.

ACTION: Issuance of permit.

SUMMARY: Notice is hereby given that the NMFS Southeast Fisheries Science Center (SEFSC; Responsible Party: Bonnie Ponwith, Ph.D.), has been issued a permit to take green (Chelonia mydas), Kemp's ridley (Lepidochelys kempii), hawksbill (Eretmochelys imbricata), leatherback (Dermochelys coriacea), olive ridley (L. olivacea), and loggerhead (Caretta caretta) sea turtles for scientific research.

ADDRESSES: The permit and related documents are available for review upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and Southeast Region, NMFS, 263 13th Ave South, St. Petersburg, FL 33701; phone (727) 824-5312; fax (727) 824-5309.

FOR FURTHER INFORMATION CONTACT: Amy Hapeman or Kristy Beard, (301) 427-8401.

SUPPLEMENTARY INFORMATION: On June 27, 2011, notice was published in the Federal Register (76 FR 37327) that a request for a scientific research permit to take loggerhead, green, Kemp's ridley, olive ridley, leatherback, and hawksbill sea turtles had been submitted by the above-named organization. The requested permit has been issued under the authority of the Endangered Species Act of 1973, as amended (ESA; 16 U.S.C. 1531 et seq.) and the regulations governing the taking, importing, and exporting of endangered and threatened species (50 CFR parts 222-226).

The SEFSC is authorized to conduct research on leatherback, loggerhead, green, hawksbill, olive ridley, and Kemp's ridley sea turtles in the Atlantic Ocean, Gulf of Mexico, Caribbean Sea and their estuarine and coastal environments. The purpose of the research is to evaluate modifications to commercial fishing gear to mitigate sea turtle interactions and capture. The permit authorizes animals to be captured during trawl surveys and to handle and sample turtles captured within fisheries managed by another Federal authority. All animals would be handled, measured, weighed, photographed, flipper tagged, passive integrated transponder tagged, and skin biopsied prior to release. A limited number of mortalities may occur due to trawling. The permit is valid for five years.

Issuance of this permit, as required by the ESA, was based on a finding that such permit (1) was applied for in good faith, (2) will not operate to the disadvantage of such endangered or threatened species, and (3) is consistent with the purposes and policies set forth in section 2 of the ESA.

Dated: February 17, 2012.
P. Michael Payne,
Chief, Permits and Conservation Division, Office of Protected Resources, National Marine Fisheries Service.

[FR Doc. 2012-4250 Filed 2-22-12; 8:45 am]

BILLING CODE 3510-22-P